DEPARTMENT OF TRANSPORTATION

Federal Aviation Administration

14 CFR Part 71

[Docket No. FAA-2023-2040; Airspace Docket No. 22-AEA-21]

RIN 2120-AA66

Establishment and Amendment of United States Area Navigation (RNAV) Routes; Eastern United States

AGENCY: Federal Aviation Administration (FAA), DOT.

ACTION: Final rule.

SUMMARY: This action establishes United States Area Navigation (RNAV) Routes T-480, T-482, and T-488, and amends RNAV Routes Q-140, T-206, T-258, T-287, T-295, and T-398 in the eastern United States. These actions support Next Generation Air Transportation System (NextGen) which provides a modern RNAV route structure to improve the efficiency of the National Airspace System (NAS).

DATES: Effective date 0901 UTC, July 11, 2024. The Director of the Federal Register approves this incorporation by reference action under 1 CFR part 51, subject to the annual revision of FAA Order JO 7400.11 and publication of conforming amendments.

ADDRESSES: A copy of the Notice of Proposed Rulemaking (NPRM), all comments received, this final rule, and all background material may be viewed online at www.regulations.gov using the FAA Docket number. Electronic retrieval help and guidelines are available on the website. It is available 24 hours each day, 365 days each year.

FAA Order JO 7400.11H, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Brian Vidis, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the Air Traffic Service (ATS) route structure as necessary to preserve the safe and efficient flow of air traffic within the NAS.

History

The FAA published a NPRM for Docket No. FAA 2023-2040 in the Federal Register (88 FR 73268; October 25, 2023), proposing to establish three RNAV routes and amend six RNAV routes in the eastern United States. Interested parties were invited to participate in this rulemaking effort by submitting written comments on the proposal to the FAA. No comments were received.

Differences From the NPRM

Subsequent to publication of the NPRM, the FAA identified that two route points had been inadvertently omitted from the legal description of RNAV Routes T-287 and T-398. These route points are required to be added to the part 71 description of each route as it represents a turn point of one degree or more. The HAMRR, MD, waypoint (WP) is added between the TOMYD, PA, WP and the DANII, MD, WP in the description of T-287; and the MANGE, VA, Fix is added between the BOUSY, VA, WP and the THHMP, VA, WP in the description of T-398. The addition of the HAMRR WP and the MANGE Fix to their respective routes does not substantively alter the route of T-287 and T-398.

The FAA identified the Bangor, ME (BGR), Very High Frequency Omnidirectional Range/Tactical Air Navigation (VORTAC) was inadvertently omitted from the NPRM's part 71 description of RNAV Route T-295. Prior to this action, the Bangor VORTAC was in the description of RNAV Route T-295 and remains on the route between the BRNNS, ME, Fix and the LAUDS, ME, WP.

In the part 71 description of RNAV Route T-206 the NUROE, NC, WP was removed as intended. In the description of the proposed changes the removal of the NUROE WP was not addressed. The NUROE WP remains charted on T-206 but is removed from the part 71 description as the route segments that it makes up do not contain a turn of one degree or more. In the part 71 description of RNAV Route T-287 the BOUSY, VA, WP was inadvertently listed as the BOUSY, NC, WP. The BOUSY WP is located in the state of Virginia in the National Airspace System Resource (NASR) database and charted as such.

Finally, in the NPRM the FAA incorrectly listed the RUBKI, MI; TOTHH, NY; HAVNS, OA; VYSOR, MD; ACUTE, NC; SVILL, VA; and POORK, VA route points as Fixes. The route points are identified as WPs in the NASR database and charted as WPs accordingly. Additionally, the FAA incorrectly listed YODAA, NY as a WP. YODAA, NY is identified as a Fix in the NASR database and charted as a Fix accordingly. This final rule corrects these errors.

Incorporation by Reference

United States Area Navigation routes (Q-routes) are published in paragraph 2006 and United States Area Navigation (T-routes) are published in paragraph 6011 of FAA Order JO 7400.11, Airspace Designations and Reporting Points, which is incorporated by reference in 14 CFR 71.1 on an annual basis. This document amends the current version of that order, FAA Order JO 7400.11H, dated August 11, 2023, and effective September 15, 2023. FAA Order JO 7400.11H is publicly available as listed in the ADDRESSES section of this document. These amendments will be published in the next update to FAA Order JO 7400.11.

FAA Order JO 7400.11H lists Class A, B, C, D, and E airspace areas, air traffic service routes, and reporting points.

The Rule

This action amends 14 CFR part 71 by establishing RNAV Routes T-480, T-482, and T-488, and amending RNAV Routes Q-140, T-206, T-258, T-287, T-295, and T-398 in the eastern United States. This action supports NextGen which provides a modern RNAV route structure to improve the efficiency of the NAS. The amendments are described below.

Q-140: Prior to this final rule, Q-140 extended between the WOBED, WA, WP and the YODAA, NY, Fix. The route is amended by moving the RUBKI, Canada, WP 22 feet west of its current position to align with the United States/Canadian border replacing the CFCTJ, MI, Computer Navigation Fix (CNF). Additionally, the RAGIX, NY, Fix is being moved 0.5 nautical miles (NM) east to align with the United States/Canadian border replacing the CFDHX, NY, CNF. The RODYY, NY, WP is being replaced with the TOTHH, NY, WP due to similar sounding route point names. Finally, the FAA is removing fixes from the route's legal description for segments that are in Canada, and segments that contain turns of less than one degree. The following are the route points that are removed: GETNG, WA, WP; CORDU, ID, Fix; PETIY, MT, WP; CHOTE, MT, Fix; CESNA, WI, WP; WISCN, WI, WP; PEPLA, Canada, WP; SIKBO, Canada, WP; MEDAV, Canada, WP; HANKK, NY, Fix; BEEPS, NY, Fix; EXTOL, NY, Fix; MEMMS, NY, Fix; and KODEY, NY, Fix. As amended, the route continues to extend between the WOBED WP and the YODAA Fix.

T-206: Prior to this final rule, T-206 extended between the ENADE, NC, WP and the ZADEL, NC, WP. The route is extended to the east between the ZADEL WP and the SNOWS, NC, Fix. As amended, the route is changed to now extend between the ENADE, NC, WP and the SNOWS, NC, Fix.

T-258: Prior to this final rule, T-258 extended between the MINIM, AL, Fix and the GMINI, NC, WP. The route is extended to the northeast between the GMINI WP and the BOUSY, VA, WP. Additionally, the FAA removed fixes from the route's legal description for segments that contain turns of less than one degree. The following are the route points that are removed: CAYAP, AL, Fix; ZIVMU, AL, Fix; DAYVS, AL, WP; HEENA, AL, Fix; KYLEE, AL, Fix; CAMPP, AL, Fix; and LANGA, GA, Fix. As amended, the route is changed to now extend between the MINIM Fix and the BOUSY WP.

T-287: Prior to this final rule, T-287 extended between the DENNN, VA, WP and the TOMYD, MD, WP. The route is extended to the southwest between the GMINI, NC, WP and the DENNN WP; and to the northeast between the TOMYD WP and the Kennebunk, ME (ENE), VOR/Distance Measuring Equipment (VOR/DME). The FAA moved the TOMYD, MD, WP 2.8 NM north of its current location. Moving the TOMYD WP allows alignment with future proposed RNAV routes, and results in the WP being in the state of Pennsylvania. The amended route segment of T-287 overlays a portion of VOR Federal Airway V-44 between the PALEO, MD, WP and the WNSTN, NJ, WP; a portion of VOR Federal Airway V-139 between MANTA, NJ, Fix and the Kennebunk VOR/DME; and a portion of VOR Federal Airway V-454 between the SNOWS, NC, Fix and the Lawrenceville, VA (LVL), VORTAC. Additionally, the FAA removed fixes from the route's legal description for segments that contain turns of less than one degree. The following are the waypoints that are removed: DENNN, VA, WP; CAARY, VA, WP; and WILMY, VA, WP. As amended, the route is changed to now extend between the GMINI WP and the Kennebunk VOR/DME.

T-295: Prior to this final rule, T-295 extended between the POORK, VA, WP and the Presque Isle, ME (PQI), VOR/DME. The FAA extended T-295 to the southwest between the DUFFI, NC, Fix and the POORK WP; added the DOGWD, VA, Fix and the RIPKN, MD, WP to the route; and replaced the Wilkes Barre, PA (LVZ), VOR/DME with the WLKES, PA, Fix. Additionally, the FAA removed the Chester, MA (CTR), VOR/DME from the route's legal description as those segments contain turns of less than one degree. As amended, the route is changed to now extend between the DUFFI Fix and the Presque Isle VOR/DME.

T-398: Prior to this final rule, T-398 extended between the RRORY, TX, WP and the GMINI, NC, WP. The FAA extended T-398 to the northeast between the GMINI WP and the TAPPA, VA, Fix. The amended route segment of T-398 overlays a portion of VOR Federal Airway V-155 from the Sandhills, NC (SDZ), VORTAC to the MANGE, VA, Fix. As amended, the route is changed to now extend between the RRORY WP and the TAPPA Fix.

T-480: T-480 is a new route that extends between the Greensboro, NC (GSO), VORTAC and the ZOLMN, NC, Fix. T-480 overlays a portion of VOR Federal Airway V-266 between the Greensboro VORTAC and the South Boston, MA (SBV), VORTAC; from the MAZON, VA, Fix to the Wright Brothers, NC (RBX), VOR/DME; and a portion of Colored Federal Airway Green 13 (G-13) from the MANTEO, NC (MQI), Nondirectional Radio Beacon (NDB) to the ZOLMN Fix.

T-482: T-482 is a new route that extends between the MEYER, NC, Fix and the COUPN, VA, WP. T-482 overlays a portion of VOR Federal Airway V-615 between the MEYER Fix and the DUFFI, NC, Fix.

T-488: T-488 is a new route that extends between the Tar River, NC (TYI), VORTAC and the RTBRO, NC, Fix. T-488 overlays a portion of VOR Federal Airway V-189 from the Tar River VORTAC and the Wright Brothers, NC (RBX), VOR/DME.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of establishing RNAV Routes T-480, T-482, and T-488, and amending RNAV Routes Q-140, T-206, T-258, T-287, T-295, and T-398 in the eastern United States in support of FAA NextGen, qualifies for categorical exclusion under the National Environmental Policy Act (42 U.S.C. 4321 et seq.) and its implementing regulations at 40 CFR part 1500, and in accordance with FAA Order 1050.1F, “Environmental Impacts: Policies and Procedures,” paragraph 5-6.5a, which categorically excludes from further environmental impact review rulemaking actions that designate or modify classes of airspace areas, airways, routes, and reporting points (see 14 CFR part 71, Designation of Class A, B, C, D, and E Airspace Areas; Air Traffic Service Routes; and Reporting Points); and paragraph 5-6.5b, which categorically excludes from further environmental impact review “Actions regarding establishment of jet routes and Federal airways (see 14 CFR 71.15, Designation of jet routes and VOR Federal airways) . . .”. As such, this airspace action is not expected to cause any potentially significant environmental impacts. In accordance with FAA Order 1050.1F, paragraph 5-2 regarding Extraordinary Circumstances, the FAA has reviewed this action for factors and circumstances in which a normally categorically excluded action may have a significant environmental impact requiring further analysis. Accordingly, the FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11H, Airspace Designations and Reporting Points, dated August 11, 2023, and effective September 15, 2023, is amended as follows:

Paragraph 2006 United States Area Navigation Routes

* * * * *

Q-140 WOBED, WA to YODAA, NY [Amended]
WOBED, WA | WP | (Lat. 48°36′01.07″ N, long. 122°49′46.52″ W)
LEWIT, MT | WP | (Lat. 47°23′00.21″ N, long. 110°08′44.78″ W)
SAYOR, MT | FIX | (Lat. 47°13′58.34″ N, long. 104°58′39.28″ W)
WILTN, ND | FIX | (Lat. 47°04′58.09″ N, long. 100°47′43.84″ W)
TTAIL, MN | WP | (Lat. 46°41′28.00″ N, long. 096°41′09.00″ W)
EEGEE, WI | WP | (Lat. 45°08′53.00″ N, long. 088°45′58.00″ W)
DAYYY, MI | WP | (Lat. 44°10′10.00″ N, long. 084°22′23.00″ W)
RUBKI, MI | WP | (Lat. 44°14′54.81″ N, long. 082°16′08.01″ W)
RAGIX, NY | FIX | (Lat. 43°32′26.95″ N, long. 078°56′47.94″ W)
AHPAH, NY | WP | (Lat. 43°18′19.00″ N, long. 078°07′35.11″ W)
ARRKK, NY | WP | (Lat. 42°03′48.52″ N, long. 075°19′00.41″ W)
TOTHH, NY | WP | (Lat. 41°52′25.85″ N, long. 074°35′49.39″ W)
YODAA, NY | FIX | (Lat. 41°43′21.19″ N, long. 074°01′52.76″ W)
Excluding the airspace within Canada.

* * * * *

Paragraph 6011 United States Area Navigation Routes

* * * * *

T-206 ENADE, NC to SNOWS, NC [Amended]
ENADE, NC | WP | (Lat. 35°12′07.91″ N, long. 081°44′40.85″ W)
FADOS, NC | WP | (Lat. 35°28′21.62″ N, long. 081°20′48.70″ W)
GOTHS, NC | WP | (Lat. 35°35′17.41″ N, long. 080°58′25.43″ W)
ZADEL, NC | WP | (Lat. 35°33′46.97″ N, long. 080°01′47.46″ W)
Liberty, NC (LIB) | VORTAC | (Lat. 35°48′41.84″ N, long. 079°36′45.33″ W)
SNOWS, NC | FIX | (Lat. 35°54′33.80″ N, long. 079°19′05.06″ W)

* * * * *

T-258 MINIM, AL to BOUSY, VA [Amended]
MINIM, AL | FIX | (Lat. 33°32′31.14″ N, long. 088°02′23.62″ W)
CRMSN, AL | WP | (Lat. 33°15′31.80″ N, long. 087°32′12.70″ W)
BRAVS, GA | WP | (Lat. 33°02′56.44″ N, long. 085°12′22.93″ W)
CANER, GA | FIX | (Lat. 32°45′21.48″ N, long. 084°35′51.42″ W)
SINCA, GA | FIX | (Lat. 33°04′52.28″ N, long. 083°36′17.52″ W)
UGAAA, GA | WP | (Lat. 33°56′51.32″ N, long. 083°19′28.42″ W)
HRTWL, SC | WP | (Lat. 34°15′05.33″ N, long. 082°09′15.55″ W)
NATCH, NC | WP | (Lat. 35°01′34.52″ N, long. 080°06′29.28″ W)
GMINI, NC | WP | (Lat. 35°12′23.01″ N, long. 079°34′01.98″ W)
LANHO, NC | FIX | (Lat. 35°31′13.87″ N, long. 078°49′11.96″ W)
ZEBUL, NC | FIX | (Lat. 35°54′44.33″ N, long. 078°23′00.47″ W)
MEYER, NC | FIX | (Lat. 36°12′49.33″ N, long. 078°04′36.13″ W)
BOUSY, VA | WP | (Lat. 36°49′04.41″ N, long. 077°54′05.08″ W)

* * * * *

T-287 GMINI, NC to Kennebunk, ME (ENE) [Amended]
GMINI, NC | WP | (Lat. 35°12′23.01″ N, long. 079°34′01.98″ W)
MMJAY, NC | WP | (Lat. 35°21′31.36″ N, long. 079°31′57.51″ W)
SNOWS, NC | FIX | (Lat. 35°54′33.80″ N, long. 079°19′05.06″ W)
OXFRD, NC | FIX | (Lat. 36°25′13.02″ N, long. 078°35′20.30″ W)
BOUSY, VA | WP | (Lat. 36°49′04.41″ N, long. 077°54′05.08″ W)
MANGE, VA | FIX | (Lat. 37°01′27.74″ N, long. 077°43′43.08″ W)
Flat Rock, VA (FAK) | VORTAC | (Lat. 37°31′42.63″ N, long. 077°49′41.59″ W)
Gordonsville, VA (GVE) | VORTAC | (Lat. 38°00′48.96″ N, long. 078°09′10.90″ W)
KAIJE, VA | WP | (Lat. 38°44′34.79″ N, long. 078°42′48.47″ W)
BAMMY, WV | WP | (Lat. 39°24′33.13″ N, long. 078°25′45.64″ W)
REEES, PA | WP | (Lat. 39°47′51.75″ N, long. 077°45′56.31″ W)
TOMYD, PA | WP | (Lat. 39°43′39.02″ N, long. 077°07′58.89″ W)
HAMRR, MD | WP | (Lat. 39°30′03.42″ N, long. 076°56′10.84″ W)
DANII, MD | WP | (Lat. 39°17′46.42″ N, long. 076°42′19.36″ W)
VYSOR, MD | WP | (Lat. 39°02′03.86″ N, long. 076°14′59.88″ W)
WNSTN, NJ | WP | (Lat. 39°05′43.81″ N, long. 074°48′01.20″ W)
MANTA, NJ | FIX | (Lat. 39°54′07.01″ N, long. 073°32′31.63″ W)
BEADS, NY | FIX | (Lat. 40°44′04.51″ N, long. 072°32′34.21″ W)
ORCHA, NY | WP | (Lat. 40°54′55.46″ N, long. 072°18′43.64″ W)
PARCH, NY | FIX | (Lat. 41°05′57.22″ N, long. 072°07′14.66″ W)
Providence, RI (PVD) | VOR/DME | (Lat. 41°43′27.63″ N, long. 071°25′46.71″ W)
INNDY, MA | FIX | (Lat. 41°46′19.19″ N, long. 071°05′55.93″ W)
BURDY, MA | FIX | (Lat. 41°57′19.14″ N, long. 070°57′07.45″ W)
HAVNS, OA | WP | (Lat. 42°17′55.00″ N, long. 070°27′42.00″ W)
GRGIO, MA | WP | (Lat. 42°35′09.36″ N, long. 070°33′54.40″ W)
LBSTA, MA | FIX | (Lat. 42°48′00.00″ N, long. 070°36′48.70″ W)
Kennebunk, ME (ENE) | VOR/DME | (Lat. 43°25′32.42″ N, long. 070°36′48.69″ W)

* * * * *

T-295 DUFFI, NC to Presque Isle, ME (PQI) [Amended]
DUFFI, NC | FIX | (Lat. 36°20′57.87″ N, long. 077°47′29.22″ W)
POORK, VA | WP | (Lat. 36°34′11.34″ N, long. 077°35′21.39″ W)
DOGWD, VA | FIX | (Lat. 36°45′05.57″ N, long. 077°28′53.38″ W)
HOUKY, VA | WP | (Lat. 37°19′55.98″ N, long. 077°07′57.63″ W)
TAPPA, VA | FIX | (Lat. 37°58′12.66″ N, long. 076°50′40.62″ W)
COLIN, VA | FIX | (Lat. 38°05′59.23″ N, long. 076°39′50.85″ W)
SHLBK, MD | WP | (Lat. 38°20′16.21″ N, long. 076°26′10.51″ W)
LOUIE, MD | FIX | (Lat. 38°36′44.33″ N, long. 076°18′04.37″ W)
GRACO, MD | FIX | (Lat. 38°56′29.81″ N, long. 076°11′59.22″ W)
RIPKN, MD | WP | (Lat. 39°10′05.68″ N, long. 076°20′14.13″ W)
BAABS, MD | WP | (Lat. 39°22′01.36″ N, long. 076°27′31.21″ W)
Lancaster, PA (LRP) | VOR/DME | (Lat. 40°07′11.91″ N, long. 076°17′28.66″ W)
WLKES, PA | FIX | (Lat. 41°16′22.57″ N, long. 075°41′21.60″ W)
LAAYK, PA | FIX | (Lat. 41°28′32.64″ N, long. 075°28′57.31″ W)
SAGES, NY | FIX | (Lat. 42°02′46.33″ N, long. 074°19′10.33″ W)
SASHA, MA | FIX | (Lat. 42°07′58.70″ N, long. 073°08′55.39″ W)
KEYNN, NH | WP | (Lat. 42°47′39.99″ N, long. 072°17′30.35″ W)
Concord, NH (CON) | VOR/DME | (Lat. 43°13′11.23″ N, long. 071°34′31.63″ W)
Kennebunk, ME (ENE) | VOR/DME | (Lat. 43°25′32.42″ N, long. 070°36′48.69″ W)
BRNNS, ME | FIX | (Lat. 43°54′08.64″ N, long. 069°56′42.81″ W)
Bangor, ME (BGR) | VORTAC | (Lat. 44°50′30.46″ N, long. 068°52′26.27″ W)
LAUDS, ME | WP | (Lat. 45°25′10.13″ N, long. 068°12′26.96″ W)
HULTN, ME | WP | (Lat. 46°02′22.29″ N, long. 067°50′02.06″ W)
Presque Isle, ME (PQI) | VOR/DME | (Lat. 46°46′27.07″ N, long. 068°05′40.37″ W)

* * * * *

T-398 RRORY, TX to TAPPA, VA [Amended]
RRORY, TX | WP | (Lat. 33°32′14.95″ N, long. 096°14′03.45″ W)
MERIC, TX | WP | (Lat. 33°11′54.97″ N, long. 095°32′32.66″ W)
SLOTH, TX | WP | (Lat. 33°30′49.99″ N, long. 094°04′24.38″ W)
MUFRE, AR | FIX | (Lat. 34°05′31.32″ N, long. 093°10′43.80″ W)
LITTR, AR | WP | (Lat. 34°40′39.90″ N, long. 092°10′49.26″ W)
EMEEY, AR | WP | (Lat. 34°34′30.29″ N, long. 090°40′27.14″ W)
GOINS, MS | WP | (Lat. 34°46′12.64″ N, long. 089°29′46.81″ W)
HAGIE, AL | WP | (Lat. 34°42′25.87″ N, long. 087°29′29.76″ W)
FILUN, AL | WP | (Lat. 34°47′50.14″ N, long. 086°38′01.14″ W)
JILIS, GA | WP | (Lat. 34°57′23.98″ N, long. 085°08′03.46″ W)
CRAND, GA | WP | (Lat. 34°57′28.88″ N, long. 084°51′20.59″ W)
BALNN, GA | WP | (Lat. 34°56′34.20″ N, long. 083°54′56.42″ W)
BURGG, SC | WP | (Lat. 35°02′00.55″ N, long. 081°55′36.86″ W)
GAFFE, SC | WP | (Lat. 35°05′38.90″ N, long. 081°33′23.92″ W)
CRLNA, NC | WP | (Lat. 35°12′49.48″ N, long. 080°56′57.32″ W)
LOCAS, NC | FIX | (Lat. 35°12′05.18″ N, long. 080°26′44.89″ W)
RELPY, NC | WP | (Lat. 35°12′45.70″ N, long. 079°47′28.76″ W)
GMINI, NC | WP | (Lat. 35°12′23.01″ N, long. 079°34′01.98″ W)
JIMYV, NC | WP | (Lat. 35°24′52.67″ N, long. 079°17′16.76″ W)
ACUTE, NC | WP | (Lat. 35°36′35.10″ N, long. 079°03′53.81″ W)
Raleigh/Durham, NC (RDU) | VORTAC | (Lat. 35°52′21.08″ N, long. 078°47′00.03″ W)
BOUSY, VA | WP | (Lat. 36°49′04.41″ N, long. 077°54′05.08″ W)
MANGE, VA | FIX | (Lat. 37°01′27.74″ N, long. 077°43′43.08″ W)
THHMP, VA | WP | (Lat. 37°29′29.47″ N, long. 077°19′08.75″ W)
SVILL, VA | WP | (Lat. 37°47′11.11″ N, long. 077°01′56.89″ W)
TAPPA, VA | FIX | (Lat. 37°58′12.66″ N, long. 076°50′40.62″ W)

* * * * *

T-480 Greensboro, NC (GSO) to ZOLMN, NC [New]
Greensboro, NC (GSO) | VORTAC | (Lat. 36°02′44.49″ N, long. 079°58′34.94″ W)
MCDON, VA | WP | (Lat. 36°40′29.56″ N, long. 079°00′52.03″ W)
MAZON, VA | FIX | (Lat. 36°45′23.24″ N, long. 077°22′02.91″ W)
COUPN, VA | WP | (Lat. 36°42′50.83″ N, long. 077°00′44.04″ W)
Elizabeth City, NC (ECG) | VOR/DME | (Lat. 36°15′27.26″ N, long. 076°10′32.15″ W)
RTBRO, NC | FIX | (Lat. 35°55′13.85″ N, long. 075°41′49.05″ W)
ZOLMN, NC | FIX | (Lat. 35°38′42.35″ N, long. 075°24′27.41″ W)

T-482 MEYER, NC to COUPN, VA [New]
MEYER, NC | FIX | (Lat. 36°12′49.33″ N, long. 078°04′36.13″ W)
COUPN, VA | WP | (Lat. 36°42′50.83″ N, long. 077°00′44.04″ W)

T-488 TAR RIVER NC (TYI) to RTBRO, NC [New]
Tar River, NC (TYI) | VORTAC | (Lat. 35°58′36.21″ N, long. 077°42′13.43″ W)
RTBRO, NC | FIX | (Lat. 35°55′13.85″ N, long. 075°41′49.05″ W)

* * * * *

Issued in Washington, DC, on April 18, 2024.
Frank Lias,
Manager, Rules and Regulations Group.

[FR Doc. 2024-08665 Filed 4-24-24; 8:45 am]

BILLING CODE 4910-13-P